DEPARTMENT OF LABOR

Occupational Safety and Health Administration

[Docket No. OSHA-2010-0022]

Student Data Form; Revision of the Office of Management and Budget's (OMB) Approval of Information Collection (Paperwork) Requirements

AGENCY: Occupational Safety and Health Administration (OSHA), Labor.

ACTION: Request for public comments.

SUMMARY: OSHA solicits public comments concerning the proposal to extend the Office of Management and Budget's (OMB) approval of the information collection requirements specified in the Student Data Form.

DATES: Comments must be submitted (postmarked, sent, or received) by May 22, 2023.

ADDRESSES:

Electronically: You may submit comments and attachments electronically at http://www.regulations.gov, which is the Federal eRulemaking Portal. Follow the instructions online for submitting comments.

Docket: To read or download comments or other material in the docket, go to http://www.regulations.gov. Documents in the docket are listed in the http://www.regulations.gov index; however, some information (e.g., copyrighted material) is not publicly available to read or download through the website. All submissions, including copyrighted material, are available for inspection through the OSHA Docket Office. Contact the OSHA Docket Office at (202) 693-2350 (TTY (877) 889-5627) for assistance in locating docket submissions.

Instructions: All submissions must include the agency name and OSHA docket number (OSHA-2010-0022) for the Information Collection Request (ICR). OSHA will place all comments, including any personal information, in the public docket, which may be made available online. Therefore, OSHA cautions interested parties about submitting personal information such as social security numbers and birthdates. For further information on submitting comments, see the “Public Participation” heading in the section of this notice titled SUPPLEMENTARY INFORMATION.

FOR FURTHER INFORMATION CONTACT: Seleda Perryman or Theda Kenney, Directorate of Standards and Guidance, OSHA, U.S. Department of Labor; telephone (202) 693-2222.

SUPPLEMENTARY INFORMATION:

I. Background

The Department of Labor, as part of the continuing effort to reduce paperwork and respondent (i.e., employer) burden, conducts a preclearance consultation program to provide the public with an opportunity to comment on proposed and continuing information collection requirements in accordance with the Paperwork Reduction Act of 1995 (PRA) (44 U.S.C. 3506(c)(2)(A)). This program ensures that information is in the desired format, reporting burden (time and costs) is minimal, the collection instruments are clearly understood, and OSHA's estimate of the information collection burden is accurate. The Occupational Safety and Health Act of 1970 (OSH Act) (29 U.S.C. 651 et seq.) authorizes information collection by employers as necessary or appropriate for enforcement of the OSH Act or for developing information regarding the causes and prevention of occupational injuries, illnesses, and accidents (29 U.S.C. 657). The OSH Act also requires that OSHA obtain such information with minimum burden upon employers, especially those operating small businesses, and to reduce to the maximum extent feasible unnecessary duplication of effort in obtaining information (29 U.S.C. 657).

The following sections describe who uses the information collected under each requirement, as well as how they use it. The purpose of these requirements is to reduce employees' risk of death or serious injury by ensuring that employment has been tested and is in safe operating condition.

The OSH Act authorizes the Occupational Safety and Health Administration (OSHA or agency) to conduct education and training courses (29 U.S.C. 670). These courses must educate an adequate number of qualified personnel to fulfill the purposes of the OSH Act, provide them with short-term training, inform them of the importance and proper use of safety and health equipment, and train employers and workers to recognize, avoid, and prevent unsafe and unhealthful working conditions.

Under section 21 of the OSH Act, the OSHA Training Institute (OTI or Institute) provides basic, intermediate, and advanced training and education in occupational safety and health for state compliance officers, agency professionals and technical-support personnel, employers, workers, organizations representing workers and employers, educators who develop curricula and teach occupational safety and health courses, and representatives of professional safety and health groups. The Institute provides courses on occupational safety and health at its national training facility in Arlington Heights, Illinois.

All course information, materials, tests, and virtual links are now managed through a learning management system. Non-Federal OSHA students attending Institute courses must request new user login credentials to access the learning management system. New user credentials can be requested through https://www.oshaelearning.geniussis.com/PublicWelcome.aspx. The registration form requires that the new user applicant provide information on their job specialization and affiliation and can be accessed through the button labeled “New User (other than federal OSHA).”

The OSHA Office of Training and Education uses the collected job specialization and affiliation information to sort reporting data quarterly, especially total student attendance, student attendance by each offered course, and student demographics and job affiliations (e.g., safety, health, and whistleblower investigator job titles).

The agency uses the information collected under the “Course Information,” “Personal Data,” and “Employer Data” to identify private sector students so that it can collect tuition costs from them or their employers as authorized by 31 U.S.C. 9701 (“Fees and Charges for Government Services and Things of Value”); Office of Management and Budget Circular A-25 (“User Charges”); and 29 CFR part 1949 (“Office of Training and Education, Occupational Safety and Health Administration”). The information in the “Personal Data” and “Emergency Contacts” categories permits OSHA to contact students if an emergency arises at their home, place of employment, or local accommodations, and to alert supervisors/alternate contacts of a trainee's injury or illness.

II. Special Issues for Comment

OSHA has a particular interest in comments on the following issues:

• Whether the proposed information collection requirements are necessary for the proper performance of the agency's functions to protect workers, including whether the information is useful;

• The accuracy of OSHA's estimate of the burden (time and costs) of the information collection requirements, including the validity of the methodology and assumptions used;

• The quality, utility, and clarity of the information collected; and

• Ways to minimize the burden on employers who must comply; for example, by using automated or other technological information collection, and transmission techniques.

III. Proposed Actions

OSHA is requesting that OMB extend the approval of the information collection requirements contained in the Student Data Form. The agency is also requesting a decrease in the burden hour estimate of 166 hours (from 333 hours to 167 hours). This reduction is a result of decreased student enrollments in Institute courses because of the ongoing COVID-19 pandemic.

OSHA will summarize the comments submitted in response to this notice and will include this summary in the request to OMB to extend the approval of the information collection requirements.

Type of Review: Extension of a currently approved collection.

Title: Student Data Form (OSHA Form 182).

OMB Control Number: 1218-0172.

Affected Public: Individuals; business or other for-profit organizations; Federal Government; State, local, or Tribal governments.

Number of Respondents: 2,000.

Number of Responses: 2,000.

Frequency of Responses: On occasion.

Average Time per Response: Average time per response is 5 minutes.

Estimated Total Burden Hours: 167.

Estimated Cost (Operation and Maintenance): $0.

IV. Public Participation—Submission of Comments on This Notice and Internet Access to Comments and Submissions

You may submit comments in response to this document as follows: (1) electronically at http://www.regulations.gov, which is the Federal eRulemaking Portal; (2) by facsimile (fax); if your comments, including attachments, are not longer than 10 pages you may fax then to the OSHA Docket Office at 202-693-1648; or (3) by hard copy. All comments, attachments, and other material must identify the agency name and the OSHA docket number for the ICR (Docket No. OSHA-2010-0022). You may supplement electronic submissions by uploading document files electronically.

Comments and submissions are posted without change at http://www.regulations.gov. Therefore, OSHA cautions commenters about submitting personal information such as social security numbers and dates of birth. Although all submissions are listed in the http://www.regulations.gov index, some information (e.g., copyrighted material) is not publicly available to read or download from this website. All submissions, including copyrighted material, are available for inspection and copying at the OSHA Docket Office. Information on using the http://www.regulations.gov website to submit comments and access the docket is available at the website's “User Tips” link.

Contact the OSHA Docket Office at (202) 693-2350, (TTY (877) 889-5627) for information about materials not available from the website, and for assistance in using the internet to locate docket submissions.

V. Authority and Signature

James S. Frederick, Deputy Assistant Secretary of Labor for Occupational Safety and Health, directed the preparation of this notice. The authority for this notice is the Paperwork Reduction Act of 1995 (44 U.S.C. 3506, et seq.) and Secretary of Labor's Order No. 8-2020 (85 FR 58393).

Signed at Washington, DC, on March 14, 2023.
James S. Frederick,
Deputy Assistant Secretary of Labor for Occupational Safety and Health.

[FR Doc. 2023-05755 Filed 3-20-23; 8:45 am]

BILLING CODE 4510-26-P